DEPARTMENT OF DEFENSE

Office of the Secretary

[Docket ID: DoD-2014-HA-0025]

Proposed Collection; Comment Request

AGENCY: Defense Health Agency (DHA), Defense Health Clinical Systems, Data Sharing Program Office, DoD.

ACTION: Notice.

SUMMARY: In compliance with Section 3506(c)(2)(A) of the Paperwork Reduction Act of 1995, the Defense Health Agency, Defense Health Clinical Systems, Data Sharing Program Office, announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 16, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Health Information Management System (DHIMS), ATTN: Alvaro Rodriguez, 5109 Leesburg Pike, Skyline 6, Suite 508, Falls Church, VA 22041, or call DHIMS, at 703-882-3867.

SUPPLEMENTARY INFORMATION:

Title; Associated Form; and OMB Number: Health Artifact and Image Management Solution (HAIMS); 0720-TBD.

Needs and Uses: The information collection requirement is necessary for HAIMS to provide the departments of Defense and Veterans Affairs health care providers with global visibility and access to artifacts (documents) and images generated during the health care delivery process. HAIMS will provide a single enterprise-wide data sharing capability for all types of artifacts and images (also known as A&I), including radiographs, clinical photographs, electrocardiographs, waveforms, audio files, video and scanned documents.

Affected Public: Individuals and Households; specifically, beneficiaries with access to the Military Healthcare system.

Annual Burden Hours: 500,000.

Number of Respondents: 6,666,667.

Responses per Respondent: 1.5.

Average Burden per Response: 3 minutes.

Frequency: On occasion.

The Health Artifact and Image Management Solution (HAIMS) will provide the departments of Defense and Veterans Affairs health care providers with global visibility and access to artifacts (documents) and images generated during the health care delivery process. HAIMS, a Wounded Warrior strategic project, will provide a single enterprise-wide data sharing capability for all types of artifacts and images (also known as A&I), including radiographs, clinical photographs, electrocardiographs, waveforms, audio files, video and scanned documents.

HAIMS will provide an enterprise solution utilizing a Service Oriented Architecture (SOA) based application with a federated infrastructure. The required solution to satisfy the scope of HAIMS will consist of industry standard COTS, as well as government off the shelf (GOTS). The expected business outcomes have been defined and constraints/dependencies have been identified in satisfying the functional, technical and system requirements to develop, field and support HAIMS throughout the life cycle.

HAIMS interfaces with external repositories to register and access patient A&I. Patient demographic information from the Clinical Data Repository (CDR) is used to associate A&I with the patient. Another method of collecting data is through bulk scanning of patient artifacts into HAIMS. The user will first select the patient for which the artifact is associated with, and then enters in relevant metadata of the artifacts.

The information in HAIMS is sensitive; therefore, it contains built-in safeguards to limit access and visibility of this information. HAIMS uses role-based security so a user sees only the information for which permission has been granted. It uses encryption security for transactions. It is DIACAP certified having been subjected to and passed thorough security testing and evaluation by independent parties. It meets safeguards specified by the Privacy Act of 1974 in that it maintains a published Department of Defense (DoD) Privacy Impact Assessment and System of Record covering Active Duty Military, Reserve, National Guard, and government civilian employees, to include non-appropriated fund employees and foreign nationals, DoD contractors, and volunteers. HAIMS servers are hosted at Military Treatment Facilities (MTFs) and physically secured by the Services and within the MHS enclave, Enterprise Infrastructure maintains information security.

Dated: March 12, 2014.
Aaron Siegel,
Alternate OSD Federal Register Liaison Officer, Department of Defense.

[FR Doc. 2014-05777 Filed 3-14-14; 8:45 am]

BILLING CODE 5001-06-P